OFFICE OF PERSONNEL MANAGEMENT

Excepted Service—December 2021

AGENCY: Office of Personnel Management (OPM).

ACTION: Notice.

SUMMARY: This notice identifies Schedule A, B, and C appointing authorities applicable to a single agency that were established or revoked from December 1, 2021 to December 31, 2021.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

14. Department of Commerce (Sch A, 213.3114)

(l) National Telecommunication and Information Administration—

(1) Ninety-one (91) professional positions in grades GS-13 through GS-15.

Schedule B

14. Department of Commerce (Sch B, 213.3214)

(d) National Telecommunication and Information Administration—

(1) Not to exceed 27 positions of GS-0850 Electrical Engineer, GS-0855 Electronics Engineer, or GS-0854 Computer Engineer in grades GS-11 through GS-15. Employment under this authority may not exceed 2 years.

Schedule C

The following Schedule C appointing authorities were approved during December 2021.

Agency name | Organization name | Position title | Authorization No. | Effective date
DEPARTMENT OF AGRICULTURE | Farm Service Agency | State Executive Director—New York | DA220019 | 12/09/2021
|  | State Executive Director—West Virginia | DA220021 | 12/9/2021
|  | State Executive Director—Maine | DA220032 | 12/27/2021
|  | State Executive Director—Illinois | DA220035 | 12/27/2021
| Office of Rural Development | State Director—Missouri | DA220025 | 12/09/2021
|  | State Director—Maine | DA220026 | 12/09/2021
|  | State Director—Illinois | DA220029 | 12/27/2021
|  | State Director—Delaware | DA220031 | 12/27/2021
|  | State Director—Nebraska | DA220030 | 12/30/2021
DEPARTMENT OF COMMERCE | Office of Public Affairs | Deputy Speechwriter | DC220024 | 12/06/2021
|  | Deputy Director of Public Affairs and Press Secretary | DC220032 | 12/06/2021
| Office of National Telecommunications and Information Administration | Senior Advisor | DC220022 | 12/07/2021
| Office of the Chief of Staff | Director of Scheduling and Advance | DC220038 | 12/16/2021
COMMODITY FUTURES TRADING COMMISSION | Office of Public Affairs | Director | CT220001 | 12/09/2021
DEPARTMENT OF DEFENSE | Office of the Assistant Secretary of Defense (Legislative Affairs) | Special Assistant | DD220021 | 12/01/2021
| Office of the Assistant Secretary of Defense (Strategy, Plans and Capabilities) | Special Assistant | DD220019 | 12/01/2021
| Office of the Under Secretary of Defense (Research and Engineering) | Senior Advisor | DD220027 | 12/02/2021
| Washington Headquarters Services | Defense Fellow (4) | DD220020 | 12/01/2021
|  |  | DD220024 | 12/02/2021
|  |  | DD220025 | 12/15/2021
|  |  | DD220033 | 12/21/2021
DEPARTMENT OF THE AIR FORCE | Office of Assistant Secretary Air Force for Acquisition | Special Assistant | DF220006 | 12/28/2021
DEPARTMENT OF EDUCATION | Office of the Secretary | Special Assistant | DB220009 | 12/16/2021
| Office of the Under Secretary | Confidential Assistant | DB220015 | 12/30/2021
DEPARTMENT OF ENERGY | Office of the Assistant Secretary for Congressional and Intergovernmental Affairs | Regional Intergovernmental and External Affairs Specialist | DE210184 | 12/12/2021
FEDERAL ENERGY REGULATORY COMMISSION | Office of the Commissioner | Economic Advisor | DR220001 | 12/21/2021
DEPARTMENT OF HEALTH AND HUMAN SERVICES | Office for Civil Rights | Deputy Director, White House Initiative on Asian Americans, Native Hawaiians, and Pacific Islanders | DH220026 | 12/02/2021
| Office of the Deputy Secretary | Special Assistant | DH220030 | 12/13/2021
| Office of Administration for Children and Families | Senior Advisor for Early Childhood Development | DH220029 | 12/22/2021
DEPARTMENT OF HOMELAND SECURITY | Office for Civil Rights and Civil Liberties | Senior Advisor | DM220032 | 12/02/2021
| Office of the General Counsel | Oversight Counsel | DM220039 | 12/07/2021
| Cybersecurity and Infrastructure Security Agency | Senior Advisor | DM220031 | 12/23/2021
DEPARTMENT OF HOUSING AND URBAN DEVELOPMENT | Office of Congressional and Intergovernmental Relations | Senior Advisor | DU220015 | 12/08/2021
| Office of Field Policy and Management | Regional Administrator (2) | DU220010 | 12/07/2021
|  |  | DU220012 | 12/07/2021
|  | Regional Administrator Region IV | DU220003 | 12/08/2021
| Office of the Secretary | Senior Advisor | DU220014 | 12/06/2021
DEPARTMENT OF LABOR | Office of Employment and Training Administration | Senior Policy Advisor | DL220008 | 12/21/2021
|  | Policy Advisor | DL220012 | 12/21/2021
| Office of Congressional and Intergovernmental Affairs | Legislative Officer | DL220020 | 12/22/2021
NATIONAL TRANSPORTATION SAFETY BOARD | Office of Board Members | Senior Advisor (Communications and Speechwriting) | TB220001 | 12/09/2021
OFFICE OF MANAGEMENT AND BUDGET | Natural Resource Programs | Confidential Assistant | BO220004 | 12/17/2021
SMALL BUSINESS ADMINISTRATION | Office of Disaster Assistance | Senior Advisor | SB220010 | 12/08/2021
| Office of Field Operations | Regional Administrator, Region VI | SB220011 | 12/08/2021
|  | Regional Administrator, Region IX | SB220015 | 12/28/2021
DEPARTMENT OF STATE | Office of the Under Secretary for Economic Growth, Energy, and the Environment | Senior Advisor | DS220008 | 12/06/2021
| Office of the Chief of Protocol | Protocol Officer (Ceremonials) | DS220009 | 12/06/2021
DEPARTMENT OF TRANSPORTATION | Immediate Office of the Administrator | Senior Advisor | DT220015 | 12/16/2021
| Office of the Assistant Secretary for Transportation Policy | Policy Advisor | DT220016 | 12/16/2021
|  | Deputy Director of Public Engagement | DT220014 | 12/17/2021
DEPARTMENT OF THE TREASURY | Comptroller of the Currency | Deputy Chief of Staff | DY220007 | 12/02/2021
| Under Secretary for Domestic Finance | Special Assistant | DY220011 | 12/08/2021
| Secretary of the Treasury | Counselor to the Secretary | DY210128 | 12/27/2021
DEPARTMENT OF VETERANS AFFAIRS | Veterans Health Administration | Special Assistant to the Under Secretary for Health | DV220009 | 12/8/2021

The following Schedule C appointing authorities were revoked during December 2021.

Agency name | Organization name | Position title | Request No. | Vacate date
DEPARTMENT OF HEALTH AND HUMAN SERVICES | Office of the Assistant Secretary for Health | Special Advisor to the Surgeon General | DH210130 | 12/27/2021

Authority: 5 U.S.C. 3301 and 3302; E.O. 10577, 3 CFR, 1954-1958 Comp., p. 218.

Office of Personnel Management.
Stephen Hickman,
Federal Register Liaison.

[FR Doc. 2022-18174 Filed 8-23-22; 8:45 am]

BILLING CODE 6325-39-P